DEPARTMENT OF AGRICULTURE

Food Safety and Inspection Service

[Docket No. 00-015N]

Codex Alimentarius Commission: Twenty-fourth Session of the Codex Committee on Fish and Fishery Products

AGENCY: Office of the Under Secretary for Food Safety, USDA.

ACTION: Notice of public meeting and request for comments.

SUMMARY: The Office of the Under Secretary for Food Safety, U.S. Department of Agriculture (USDA), and the Food and Drug Administration (FDA), are sponsoring a public meeting on May 10, 2000, to provide information and receive public comments on agenda items that will be discussed at the Twenty-fourth Session of the Codex Committee on Fish and Fishery Products (CCFFP), which will be held in Alesund, Norway, June 5-9, 2000. The Under Secretary for Food Safety and FDA recognize the importance of providing interested parties the opportunity to obtain background information on the Twenty-fourth Session of the CCFFP and to address items on the agenda.

DATES: The public meeting is scheduled for Wednesday, May 10, 2000, from 9 a.m. to 12 noon.

ADDRESSES: The public meeting will be held in the FDA, Office of Seafood, Conference Room, 1110 Vermont Avenue, NW, Suite 1110, Washington, DC 20005. To receive copies of the documents referenced in this notice, contact the FSIS Docket Clerk, U.S. Department of Agriculture, Food Safety and Inspection Service, Room 102, Cotton Annex, 300 12th Street, SW., Washington, DC 20250-3700. The documents will also be accessible via the World Wide Web at the following address: http://www.fao.org/waicent/faoinfo/economic/esn/codex. Send comments, in triplicate, to the FSIS Docket Clerk and reference Docket # 00-015N. All comments submitted in response to this notice will be available for public inspection in the Docket Clerk's Office between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250-3700, Telephone (202) 205-7760, Fax (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Fish and Fishery Products was established to elaborate codes and standards for fish and fishery products. The Government of Norway hosts this Committee and will chair the Committee meeting.

Issues To Be Discussed at the Public Meeting

Agenda items will be described and discussed at the May 10, 2000, public meeting. Attendees will have the opportunity to pose questions and offer comments.

The provisional agenda items to be discussed during the public meeting are:

1. Matters Referred by the Codex Alimentarius Commission and other Codex committees,

2. Weight Determination of Quick Frozen Shrimps and Prawns,

3. Inclusion of Additional Species in the Standards for Fish and Fishery Products; Chilean Langostino,

4. Proposed Draft Code of Practice for Fish and Fishery Products at Step 4,

5. Draft Standard for Dried Salted Anchovies; Government Comments at Step 7,

6. Draft Standard for Crackers from Marine and Freshwater Fish, Crustacean, and Molluscan Shellfish at Step 7,

7. Proposed Draft Standard for Salted Atlantic Herring and Salted Sprats at Step 4,

8. Proposed Draft Standard for Smoked Fish at Step 4,

9. Proposed Draft Standard for Molluscan Shellfish at Step 4,

10. Model Certificate for Fish and Fishery Products,

11. Discussion Paper on the Development of a Standard for Scallops,

12. Discussion Paper on the Development of a Standard for Sturgeon Caviar,

13. Discussion Paper on the Use of Chlorinated Water.

Each issue listed will be fully described in documents distributed, or to be distributed, by the Norway Secretariat. Members of the public may access or request copies of these documents (see ADDRESSES).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: April 18, 2000.
Patrick J. Clerkin,
Associate U.S. Manager for Codex Alimentarius.

[FR Doc. 00-9987 Filed 4-20-00; 8:45 am]

BILLING CODE 3410-DM-P